FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Atallah Business Group, Inc., 6811 North West 87 Avenue, Miami, FL 33178. Officers: Betsy De Los Angeles Perez-Diaz, Secretary (Qualifying Individual), Ramses Atallah, President.

Famous Target Logistics Inc., 147-39 175th Street, Suite 215, Jamaica, NY 11434. Officers: Rende Li, Vice President (Qualifying Individual) Yuen Chun Wong, Director.

Scarbrough International Express Lines, Ltd. dba, Six Lines, Ltd., Six Pack Express, Inc., 10841 Ambassador Drive, Kansas City, MO 64153. Officers: Sean Kevin Scarbrough, President (Qualifying Individual) Roger Lee Scarbrough, CEO

Panex Logistics Int'l (U.S.A.), Inc., 9111 S. La Cienega Blvd., Suite 104, Inglewood, CA 90301. Officer: Chul Heui Choi, President (Qualifying Individual)

Embarque Bella Vista Inc., 1170 Randall Avenue, Bronx, NY 10474. Officers: Diego Rivera, President (Qualifying Individual) Eloy Mora, Vice President

CRC Universal, Inc., 7957 NW 67 Street, Miami, FL 33166. Officers: Carlos L. Mulet, President (Qualifying Individual) Colin G. Lowe, Vice President

J.M.P. Shipping, L.L.C., 10185 Lakeside Drive, Coral Gables, FL 33156. Officer: Jeffrey Paul Patterson, Managing Member (Qualifying Individual)

Savant International Logistics Ltd., Cargo Building 80, Rm. 101, JFK Int'l Airport, Jamaica, NY 11430. Officers: Hal Robbins, Vice President (Qualifying Individual), Leonard Satz, President

FMI Container Lines Inc., 9133 S. La Cienega Blvd., Suite 140, Inglewood, CA 90301. Officers: David Shin, President (Qualifying Individual), Chin Shin, Treasurer

Non-Vessel Operating Common Carrier and Ocean Freight Forwarder Transportation Intermediary Applicants

Fast Track Worldwide Logistics, Inc., 1571 NW 93 Avenue, Miami, FL 33172. Officers: Alberto A. Rodriguez, Secretary (Qualifying Individual) Niurka Al Varado, President

Latek Logistics Inc., 301 Pen Horn Avenue, Unit 4, Secaucus, NJ 07094. Officers: Behcet Tuysuzogu, President (Qualifying Individual), Mustafa Sillan, Vice President

Ocean Freight Forwarder—Ocean Transportation Intermediary Applicants

All American Cargo-Servicios Nicaraguenses, Corp., dba All American Cargo-Servicios Nicaraguenses, 1925 NW 21 Terrace, Miami, FL 33142. Officers: Martha Elizabeth Rivas, Treasurer (Qualifying Individual), Oscar Galo, President

A.Y. Transport, Inc., 125 Component Drive, San Jose, CA 95131. Officers: Amit Ezyoni, CEO Yeela Haggai, Partner (Qualifying Individual),

Transworld Logistics and Shipping Services Inc., dba Allcargo Movers Inc., 200 Middlesex-Essex Tpk. Suite 200, Iselin, NJ 08830. Officers: Michael Veynberg, Treasurer (Qualifying Individual), Sivaswamy Iyer Ramakrishnan, President

Dated: December 20, 2002.
Bryant L. VanBrakle,
Secretary.

[FR Doc. 02-32578 Filed 12-24-02; 8:45 am]

BILLING CODE 4140-01-P